DEPARTMENT OF ENERGY

Federal Energy Regulatory Commission

Combined Notice of Filings #1

Take notice that the Commission received the following electric corporate filings:

Docket Numbers: EC13-118-000.

Applicants: Fairless Energy, LLC.

Description: Application for Authorization for Acquisition of Jurisdictional Facilities and Request for Expedited Action of Fairless Energy, LLC.

Filed Date: 6/13/13.

Accession Number: 20130613-5140.

Comments Due: 5 p.m. ET 7/5/13.

Take notice that the Commission received the following electric rate filings:

Docket Numbers: ER10-2238-006; ER10-2239-006; ER10-2237-005; ER12-896-002.

Applicants: Indigo Generation LLC, Larkspur Energy LLC, Wildflower Energy LP, Mariposa Energy, LLC.

Description: Triennial Market Power Analysis for the Southwest Region of the DGC Southwest Sellers.

Filed Date: 6/13/13.

Accession Number: 20130613-5124.

Comments Due: 5 p.m. ET 8/12/13.

Docket Numbers: ER10-3140-013.

Applicants: Inland Empire Energy Center, LLC.

Description: Triennial Market Power Analysis of Inland Empire Energy Center, LLC.

Filed Date: 6/13/13.

Accession Number: 20130613-5122.

Comments Due: 5 p.m. ET 8/12/13.

Docket Numbers: ER12-1875-002.

Applicants: AltaGas Renewable Energy Colorado LLC.

Description: Notice of Change in Status of AltaGas Renewable Energy Colorado LLC.

Filed Date: 6/13/13.

Accession Number: 20130613-5135.

Comments Due: 5 p.m. ET 7/5/13.

Docket Numbers: ER13-1485-001.

Applicants: Wheelabrator Baltimore, L.P.

Description: Wheelabrator Baltimore, L.P. Amendment MBR Tariff to be effective 7/1/2013.

Filed Date: 6/13/13.

Accession Number: 20130613-5120.

Comments Due: 5 p.m. ET 7/5/13.

Take notice that the Commission received the following electric securities filings:

Docket Numbers: ES13-29-000.

Applicants: California Independent System Operator Corporation.

Description: California Independent System Operator Corporation's Application Under Section 204 of the Federal Power Act for an Order Authorizing the Issuance of Securities.

Filed Date: 6/13/13.

Accession Number: 20130613-5123.

Comments Due: 5 p.m. ET 7/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2013.
Nathaniel J. Davis, Sr.,
Deputy Secretary.

[FR Doc. 2013-15396 Filed 6-26-13; 8:45 am]

BILLING CODE 6717-01-P